NATIONAL AERONAUTICS AND SPACE ADMINISTRATION

[Notice (11-024)]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council. The meeting will be held for the purpose of soliciting from the aeronautics community and other persons research and technical information relevant to program planning.

DATES: Thursday, April 14, 2011, 8:30 a.m. to 3:30 p.m., Local Time; Friday, April 15, 2011, 8:30 a.m. to 11:15 a.m., Local Time.

ADDRESSES: Thursday, April 14, 2011—NASA Dryden Flight Research Center (DFRC), Lilly Drive Building 4825, Edwards, CA 93523. Friday, April 15, 2011—The AERO Institute, 38256 Sierra Highway, Palmdale, CA 93550.

FOR FURTHER INFORMATION CONTACT: Ms. Susan L. Minor, Executive Secretary for the Aeronautics Committee, National Aeronautics and Space Administration Headquarters, Washington, DC 20546, (202) 358-0566, or susan.l.minor@nasa.gov.

SUPPLEMENTARY INFORMATION: The meeting will be open to the public up to the capacity of the room. Any person interested in participating in the meeting by Webex and telephone should contact Ms. Susan L. Minor at (202) 358-0566 for the Web link, toll-free number and passcode. The agenda for the meeting includes the following topics:

• NASA Dryden Flight Research Center Overview.

• Aeronautics Budget update.

• Unmanned Aircraft Systems (UAS) in the National Airspace System (NAS) planning.

• Air Traffic Management technology demonstration discussion.

• Green aviation research.

It is imperative that these meetings be held on this date to accommodate the scheduling priorities of the key participants. For the meeting at DFRC, attendees will be requested to comply with Edwards Air Force Base (AFB) and NASA Security. To get to DFRC, you will first need to pass through one of three Edwards AFB gates, guarded by Military police. When you arrive at a gate entering Edwards AFB, state that you are attending the NASA Advisory Council Aeronautics Committee session in the NASA Integrated Support Facility (ISF—Bldg 4825) before receiving an access badge. Arrive early and be prepared to park your car at the gate and go inside the guard building. You must have proof of automobile insurance showing the effective date and expiration date, a valid driver's license with photo, and a current vehicle registration to gain access to Edwards AFB. While on base, be sure to wear your seatbelt and drive no faster than the posted speed limits. Also, do not talk on your cell phone without a hands-free device.

All non-U.S. citizens must fax a copy of their passport, and print or type their name, current address, citizenship, company affiliation (if applicable), Permanent Resident Alien card number and expiration date (if applicable), and place and date of entry into the U.S., to Carmen Arevalo, Office of the Center Director, NASA Dryden Flight Research Center, no less than 10 working days prior to the meeting. Non-U.S. citizens will need to show their Passport or Permanent Resident Alien card to enter NASA Dryden Security Office and must state they are attending the NASA Advisory Council Aeronautics Committee session in the NASA DFRC ISF (Bldg 4825). For questions, please contact Ms. Carmen Arevalo at (661) 276-3102, carmen.arevalo-1@nasa.gov.

March 17, 2011.
P. Diane Rausch,
Advisory Committee Management Officer, National Aeronautics and Space Administration.

[FR Doc. 2011-6897 Filed 3-23-11; 8:45 am]

BILLING CODE 7510-13-P